DEPARTMENT OF EDUCATION

Application for New Awards; Data Disaggregation Initiative Program

AGENCY: Office of English Language Acquisition (OELA), Department of Education.

ACTION: Notice.

Overview Information: Title III National Activities—Asian American and Pacific Islander Data Disaggregation Initiative. Notice inviting applications for new awards for fiscal year (FY 2016).

Catalog of Federal Domestic Assistance (CFDA) Number: 84.365D.

Dates:

Applications Available: May 4, 2016.

Deadline for Notice of Intent to Apply: May 24, 2016.

Deadline for Transmittal of Applications: July 5, 2016.

Deadline for Intergovernmental Review: September 1, 2016.

Full Text of Announcement

I. Funding Opportunity Description

Purpose of Program: In FY 2016, the Department will, from the Elementary and Secondary Education Act Title III National Activities funds, award grants on a competitive basis for the Asian American and Pacific Islander (AAPI) Data Disaggregation (D2) program. The grants will be awarded to State educational agencies (SEAs) in consortia with local educational agencies (LEAs) to obtain and evaluate disaggregated data on English Learner (EL) AAPI subpopulations beyond the existing seven racial and ethnic categories ¹ within the school community.

¹ In 1997, the Office of Management and Budget created five categories for data on race: American Indian or Alaska Native; Asian; Black or African American; Native Hawaiian or Other Pacific Islander; and White; and two categories for data on ethnicity: “Hispanic or Latino” and “Not Hispanic or Latino.” These data standards stemmed in large measure from new responsibilities to enforce civil rights laws. Data are needed to monitor equal access in housing, education, employment, and other areas, for populations that historically had experienced discrimination and differential treatment because of their race or ethnicity.

Background: There has been ongoing and increasing interest among States in using data to identify effective practices that can be used by educators to improve student outcomes in our education system and in disseminating those practices. Comprehensive data collection systems are integral to enabling States to identify and disseminate such practices.

In addition, a number of States have found that disaggregated data on student performance is critical for identifying and developing strategies for closing educational opportunity gaps among different student groups. These efforts have included collecting additional data about K-12 students, disaggregating these data, and making this information available to educators and the public. Based on the educational gaps highlighted by disaggregated data, States, universities, and colleges have created programs to improve the college and career readiness of K-12 students who previously were underrepresented among those enrolled in higher education institutions.

The AAPI population is one of the fastest ² growing groups of students and includes a significant number of ELs. Some public universities have identified AAPI subgroups by socioeconomic characteristics and educational attainment. Using these disaggregated AAPI data has helped SEAs and LEAs identify barriers certain groups of underserved students face in K-12 and postsecondary education. Additional granular data on the AAPI subgroup, as shown by existing State and postsecondary efforts, enable SEAs and LEAs to make strategic and informed decisions on interventions for underserved populations that include ELs. Data that show disparities within subpopulations of the AAPI population can help demonstrate the need for differentiated instructional approaches and other effective intervention approaches for different components of the AAPI population—all with the result of improving outcomes for high-need EL students.

² Cox, W. (January 12, 2015). Asians: America's Fastest Growing Minority. www.newgeography.com/content/004825-asians-americas-fastest-growing-minority.

To better serve all ELs, this competition encourages SEAs to partner with LEAs to further disaggregate the data beyond the seven racial and ethnic categories and analyze and evaluate that data, or analyze and evaluate already-disaggregated data as a first step to inform targeted services and instructional support for underserved students, and to increase transparency in order to spotlight hidden achievement and opportunity gaps for AAPI ELs.

The Department is establishing two absolute priorities for this competition. Applicants must address one of the two absolute priorities: One for applications proposing to further disaggregate and evaluate data regarding AAPI EL students, and the other for applications proposing to identify improvements to instructional programs, initiatives, or other services for AAPI EL students based on an analysis of already disaggregated data.

The Department also has included one invitational priority for projects that will establish sustained partnerships with non-profit organizations and other private entities. An applicant may address the invitational priority regardless of which absolute priority it addresses.

To improve the quality of data available to inform the future activities of SEAs and LEAs to improve student learning outcomes, D2-funded projects must use a portion of their budgets to conduct a project evaluation. The detailed requirements for this evaluation can be found in the Program Requirements section of this notice.

Priorities: We are establishing these priorities for the FY 2016 grant competition and any subsequent year in which we make awards from the list of unfunded applications from this competition, in accordance with section 437(d)(1) of the General Education Provisions Act (GEPA), 20 U.S.C. 1232(d)(1).

Absolute Priorities: These priorities are absolute priorities. Under 34 CFR 75.105(c)(3) we consider only applications that meet one of these priorities. Under this competition, each absolute priority constitutes its own funding category. The Secretary intends to award grants under each absolute priority for which applications of sufficient quality are submitted. Applicants must choose one of the two absolute priorities, and must clearly identify the specific absolute priority that the proposed project addresses.

These priorities are:

Absolute Priority 1:

The purpose of this priority is to fund projects proposed by SEAs that do not currently disaggregate AAPI data on EL AAPI subpopulations beyond the existing seven racial and ethnic categories. Applicants must propose projects that will, consistent with applicable privacy requirements, improve the SEA's system of data collection by further disaggregating the AAPI subgroup and other subgroups as determined by the applicant, beyond the existing seven racial and ethnic categories and report, analyze, and evaluate the results of this effort for underserved populations including EL AAPI students.

Absolute Priority 2:

The purpose of this priority is to fund projects proposed by SEAs whose data systems, consistent with applicable privacy requirements, currently disaggregate AAPI data on EL AAPI subpopulations beyond the existing seven racial and ethnic categories inclusive of other subgroups, if applicable. Applicants must propose projects that will analyze and evaluate the data to identify opportunity gaps, interventions, improvements to instructional programs, and other initiatives that will improve outcomes for underserved populations including EL AAPI students.

Invitational Priority: For FY 2016 and any subsequent year in which we make awards from the list of unfunded applications from this competition, this priority is an invitational priority. Under 34 CFR 75.105(c)(1) we do not give an application that meets this invitational priority a competitive or absolute preference over other applications.

This priority is:

Invitational Priority:

Projects that will establish sustained partnerships with non-profits or other private entities, including philanthropic organizations, to sustain the project beyond the life of the grant.

Program Requirements:

Applicants must provide a high-quality plan for disseminating the evaluative findings from their projects to inform educators, parents, families, and other stakeholders and to highlight lessons learned that may be used by other SEAs that undertake similar disaggregation efforts. SEA applicants must apply as part of a consortium with one or more LEAs, and also must identify the LEAs they intend to partner with for the purposes of this program.

In addition, grantees funded under Absolute Priority 1 must, by the end of the five-year award period, conduct, complete, and report the findings of an evaluation of the project that includes the elements described in paragraphs 1 through 7, below. Grantees funded under Absolute Priority 2 must address the elements described in paragraphs 1 through 9, below, even though some of the described activities may have been conducted prior to the D2 award or may have otherwise been conducted with other funds not connected to the D2 project.

This evaluation must be submitted within 90 days of the end of the project period.

Required elements for both Absolute Priority 1 and 2:

1. A description of the activities the project has undertaken.

2. A description, including documentation, of the steps the SEA or partner LEA(s) took to identify the additional disaggregations for students in the AAPI subgroup as well as any other disaggregations that were undertaken.

3. A description of how the SEA or partner LEA(s) identified the achievement and opportunity gaps between students in the AAPI subgroups and students in other racial/ethnic groups, including the source(s) of the data used for the comparison.

4. A description of how achievement and opportunity gaps between ELs and non-ELs were identified, including the source of the data. (The SEA or partner LEA(s) must use the most recent available data for all public schools in the jurisdiction.)

5. A discussion of the likely cause(s) of the identified achievement and opportunity gaps.

6. A description of how the SEA or partner LEA(s) will publicly report on the identified achievement and opportunity gaps and causes, including timelines for this reporting.

7. A plan for how the SEA or partner LEA(s) will use the information to eliminate the identified achievement and opportunity gaps, including how the SEA determined that these strategies will be effective. The plan must justify these proposed activities by tying them back to State/local needs and explain how ELs will be supported, in particular, through these activities.

Additionally, grantees funded under Absolute Priority 2 must include the following elements:

8. A description of the measures that the SEA or partner LEA(s) will use to evaluate the progress toward eliminating the identified achievement and opportunity gaps including the method and timeline for the evaluation and how the continued evaluation of this progress will be built into existing strategic plans (or other guidance documents).

9. A description of how the SEA or partner LEA(s) will publicly report on its progress in eliminating the identified gaps, including timelines for this reporting.

Definitions: The following definitions are from 34 CFR 77.1, section 8101 of the ESEA, as amended by the Every Student Succeeds Act (ESSA) (20 U.S.C. 7801), or 2 CFR 200.90, except that the definition for Asian American and Pacific Islander is being established under the waiver of rulemaking for this program.³ These definitions apply to the priorities and selection criteria in this notice. The source of each definition is noted in parentheses following the text of the definition.

³ The definition for “Asian American and Pacific Islander” included in this notice also was set forth in Executive Order 13515, October 14, 2009 and can also be found on the White House Initiative for Asian American and Pacific Islanders Web site at: www.whitehouse.gov/aapi.

Asian American and Pacific Islander means persons within the jurisdiction of the United States having ancestry of any of the original peoples of East Asia, Southeast Asia, or South Asia, or any of the aboriginal, indigenous, or native peoples of Hawaii and other Pacific Islands.

Baseline means the starting point from which performance is measured and targets are set. (34 CFR 77.1)

English learner, when used with respect to an individual, means an individual—

(a) Who is aged 3 through 21;

(b) Who is enrolled or preparing to enroll in an elementary school or secondary school;

(c)(i) Who was not born in the United States or whose native language is a language other than English;

(ii)(I) Who is a Native American or Alaska Native, or a Native resident of the outlying areas; and

(II) Who comes from an environment where a language other than English has had a significant impact on the individual's level of English language proficiency; or

(iii) Who is migratory, whose native language is a language other than English, and who comes from an environment where a language other than English is dominant; and

(d) Whose difficulties in speaking, reading, writing, or understanding the English language may be sufficient to deny the individual—

(i) The ability to meet the State's challenging State academic standards;

(ii) The ability to successfully achieve in classrooms where the language of instruction is English; or

(iii) The opportunity to participate fully in society. (Section 8101 of the ESEA, as amended by the ESSA)

Local educational agency means:

(a) In General. A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the local educational agency receiving assistance under this Act with the smallest student population, except that the school shall not be subject to the jurisdiction of any State educational agency other than the Bureau of Indian Education. (Section 8101 of the ESEA, as amended by the ESSA)

Outlying area means:

(a) American Samoa, the Commonwealth of the Northern Mariana Islands, Guam, and the United States Virgin Islands;

(b) The Republic of Palau, to the extent permitted under section 105(f)(1)(B)(ix) of the Compact of Free Association Amendments Act of 2003 (Pub. L. 108-188; 117 Stat. 2751) and until an agreement for the extension of United States education assistance under the Compact of Free Association becomes effective for the Republic of Palau; and

(c) The Republic of the Marshall Islands and the Federated States of Micronesia, to the extent permitted under section 105(f)(1)(B)(viii) of the Compact of Free Association Amendments Act of 2003 (Pub. L. 108-188; 117 Stat. 2751). (Section 8101 of the ESEA, as amended by the ESSA)

State means each of the 50 States, the District of Columbia, the Commonwealth of Puerto Rico, and each of the outlying areas. (Section 8101 of the ESEA, as amended by the ESSA)

Waiver of Proposed Rulemaking: Under the Administrative Procedure Act (5 U.S.C. 553) the Department generally offers interested parties the opportunity to comment on proposed priorities, requirements, and definitions. Section 437(d)(1) of GEPA, however, allows the Secretary to exempt from rulemaking requirements, regulations governing the first grant competition under a new or substantially revised program authority. This is the first grant competition for this program under section 3111(c)(1)(C) of the ESEA, as reauthorized by the No Child Left Behind Act, 20 U.S.C. 6821(c)(1)(C), and therefore qualifies for this exemption. In order to ensure timely grant awards, the Secretary has decided to forego public comment on the priorities, requirements, and definition under section 437(d)(1) of GEPA. These priorities, and definition will apply to the FY 2016 grant competition and any subsequent year in which we make awards from the list of unfunded applications from this competition.

Program Authority: 20 U.S.C. 6821.

Applicable Regulations: (a) The Education Department General Administrative Regulations (EDGAR) in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

II. Award Information

Type of Award: Discretionary grants.

Estimated Available Funds: $1,000,000.

Contingent upon the availability of funds and the quality of applications, we may make additional awards in FY 2017 or later years from the list of unfunded applications from this competition.

Estimated Range of Awards: Absolute Priority 1: $200,000-$400,000; Absolute Priority 2: $100,000-$250,000.

Estimated Average Size of Awards: Absolute Priority 1: $300,000; Absolute Priority 2: $175,000

Estimated Number of Awards: Up to 4 total.

Note: The Department is not bound by any estimates in this notice.

Project Period: Up to 60 months.

III. Eligibility Information

1. Eligible Applicants: SEAs in consortia with one or more LEAs. (20 U.S.C. 6821)

2. Cost Sharing or Matching: This program does not require cost sharing or matching.

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA 84.365D.

Individuals with disabilities can obtain a copy of the application package in an accessible format (e.g., braille, large print, audiotape, or compact disc) by contacting the person listed under Accessible Format in section VIII of this notice.

2. a. Content and Form of Application Submission: Requirements concerning the content of an application, together with the forms you must submit, are in the application package for this competition.

Notice of Intent To Apply: May 24, 2016.

We will be able to develop a more efficient process for reviewing grant applications if we know the approximate number of applicants that intend to apply for funding under this competition. Therefore, the Secretary strongly encourages each potential applicant to notify us of the applicant's intent to submit an application by emailing OELA.D2.2016@ed.gov with the subject line “Intent to Apply” and include in the content of the email the following information: (1) The applicant organization's name and address, (2) the absolute priority the applicant is planning to address in the application, and (3) whether the applicant plans to address the invitational priority. In addition, applicants should identify the LEA(s) they intend to partner with. Applicants that do not provide notice of their intent to apply may still submit an application. Page Limit: The application narrative (Part III of the application) is where you, the applicant, address the selection criteria that reviewers use to evaluate your application. We strongly recommend that you limit the application narrative to no more than 35 pages. Applicants are also strongly encouraged not to include lengthy appendices that contain information that they were unable to include within the page limits for the narrative.

Applicants must use the following standards:

• A “page” is 8.5″; x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit for the application does not apply to Part I, the cover sheet; Part II, the budget section, including the narrative budget justification; Part IV, the assurances and certifications; or the one-page abstract, the bibliography, or the letters of support of the application. However, the page limit does apply to all of the application narrative section of the application.

b. Submission of Proprietary Information: Given the types of projects that may be proposed in applications for the D2 program, your application may include business information that you consider proprietary. In 34 CFR 5.11 we define “business information” and describe the process we use in determining whether any of that information is proprietary and, thus, protected from disclosure under Exemption 4 of the Freedom of Information Act (5 U.S.C. 552, as amended).

Consistent with the process followed in the prior OELA competitions, we may post the project narrative section of funded D2 applications on the Department's Web site. Therefore, you may wish to request confidentiality of business information. Identifying proprietary information in the submitted application will help facilitate this public disclosure process.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: May 4, 2016.

Deadline for Notice of Intent to Apply: May 24, 2016.

Informational Meetings: The D2 program intends to hold Webinars designed to provide technical assistance to interested applicants. Detailed information regarding these meetings will be provided on the D2 Web site at http://www2.ed.gov/programs/d2/index.html.

Deadline for Transmittal of Applications: July 5, 2016.

Applications for grants under this competition must be submitted electronically using the Grants.gov application site. For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: September 1, 2016.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements:

Applications for grants under this program must be submitted electronically unless you qualify for an exception to this requirement in accordance with the instructions in this section.

a. Electronic Submission of Applications.

Applications for grants under the D2 program, CFDA number 84.365D, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the D2 program at www.Grants.gov. You must search for the downloadable application package for this competition by the CFDA number. Do not include the CFDA number's alpha suffix in your search (e.g., search for 84.365, not 84.365D).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only, non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the project narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Melissa Escalante, U.S. Department of Education, 400 Maryland Avenue SW., Room 5C153, Washington, DC 20202-6510. FAX: (202) 205-1229.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.365D), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.365D), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210. The maximum score for all of these criteria is 100 points. The maximum score for each criterion is indicated in parentheses.

(a) Quality of the project design. (Up to 45 points)

The Secretary considers the quality of the design of the proposed project. In determining the quality of the design of the proposed project, the Secretary considers:

(1) The extent to which the goals, objectives, and outcomes to be achieved by the proposed project are clearly specified and measurable.

(2) The extent to which the design for implementing and evaluating the proposed project will result in information to guide possible replication of project activities or strategies including information about the effectiveness of the approach or strategies employed by the project.

(b) Quality of project personnel. (Up to 10 points)

The Secretary considers the quality of the personnel who will carry out the proposed project. In determining the quality of project personnel, the Secretary considers:

(1) The extent to which the applicant encourages applications for employment from persons who are members of groups that have traditionally been underrepresented based on race, color, national origin, gender, age, or disability.

(2) The qualifications, including relevant training and experience, of key project personnel.

(c) Quality of the management plan. (Up to 20 points)

The Secretary considers the quality of the management plan for the proposed project. In determining the quality of the management plan for the proposed project, the Secretary considers:

(1) The adequacy of the management plan to achieve the objectives of the proposed project on time and within budget, including clearly defined responsibilities, timelines, and milestones for accomplishing project tasks.

(2) The extent to which the time commitments of the project director and principal investigator and other key project personnel are appropriate and adequate to meet the objectives of the proposed project.

(d) Quality of the project evaluation. (Up to 25 points) The Secretary considers the quality of the evaluation to be conducted of the proposed project. In determining the quality of the evaluation, the Secretary considers:

(1) The extent to which the methods of evaluation are thorough, feasible, and appropriate to the goals, objectives, and outcomes of the proposed project.

(2) The extent to which the methods of evaluation will provide performance feedback and permit periodic assessment of progress toward achieving intended outcomes.

2. Review and Selection Process: The Department will screen applications that are submitted for D2 grants in accordance with the requirements in this notice and determine which applications meet the eligibility and other requirements. Reviewers will review all eligible applications for D2 grants that are submitted by the established deadline.

Applicants should note, however, that the Department may screen for eligibility at multiple points during the competition process, including before and after peer review; applicants that are determined to be ineligible will not receive a grant award regardless of peer reviewer scores or comments. If we determine that a D2 grant application does not meet a D2 requirement, the application will not be considered for funding.

For D2 grant applications, the Department intends to conduct a process to review and score all eligible applications. Reviewers will review and score all eligible applications on the following four selection criteria: (a) Quality of the project design; (b) Quality of project personnel; (c) Quality of the management plan; and (d) Quality of evaluation.

We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this program the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) Within 90 days of the end of your project period, you must submit a final performance report, including financial information, as directed by the Secretary. The elements of the report are detailed in the Program Requirements section of this notice above.

If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms.html.

(c) Under 34 CFR 75.250(b), the Secretary may provide a grantee with additional funding for data collection analysis and reporting. In this case the Secretary establishes a data collection period.

4. Performance Reporting: All grantees must submit an annual performance report that should contain the following elements on the project's progress: Preface, introduction, background, and data information/explanation; and a final performance report (see the section on Program Requirements) that includes performance measures established by the grantee. The Department will consider this data in making annual continuation awards. 34 CFR 75.110(b).

Consistent with 34 CFR 75.591, grantees funded under this program shall comply with the requirements of any evaluation of the program conducted by the Department or an evaluator selected by the Department.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Melissa Escalante, U.S. Department of Education, 400 Maryland Avenue SW., Room 5C153, Washington, DC 20202. Telephone: (202) 401-4300. FAX: (202) 205-1229 or by email at OELA.D2.2016@ed.gov.

If you use a TDD or a TTY, call the Federal Relay Service, toll free, at 1-800-877-8339.

VIII. Other Information

Accessible Format: Individuals with disabilities can obtain this document and a copy of the application package in an accessible format (e.g., braille, large print, audiotape, or compact disc) on request to the program contact person listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: April 28, 2016.
Libia S. Gil,
Assistant Deputy Secretary and Director for the Office of English Language Acquisition.

[FR Doc. 2016-10345 Filed 5-3-16; 8:45 am]

BILLING CODE 4000-01-P